DEPARTMENT OF COMMERCE

National Oceanic and Atmospheric Administration

RIN 0648-XP76

Fisheries of the Caribbean, Gulf of Mexico, and South Atlantic; Reef Fish of the Gulf of Mexico; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Florida Fish and Wildlife Conservation Commission, Fish and Wildlife Research Institute. This study would place observers aboard vessels of opportunity in the Gulf of Mexico recreational for-hire fishery to collect reef fish for determination of age structure and sex composition and to tag and release reef fish to evaluate discard mortality. If granted, the EFP would authorize the applicant, within certain conditions, to collect and possess reef fish that would otherwise be prohibited because of existing fishing regulations.

DATES: Comments must be received no later than 5 p.m., eastern time, on August 12, 2009.

ADDRESSES: You may submit comments on the application by any of the following methods:

• E-mail: Rich.Malinowski@noaa.gov. Include in the subject line of the e-mail comment the following document identifier: “FFWCC_EFP”.

• Mail: Rich Malinowski, Southeast Regional Office, NMFS, 263 13th Avenue South, St. Petersburg, FL 33701.

• Fax: 727-824-5308.

The application and related documents are available for review upon written request to any of the above addresses.

FOR FURTHER INFORMATION CONTACT: Rich Malinowski, 727-824-5305; fax 727-824-5308; e-mail Rich.Malinowski@noaa.gov.

SUPPLEMENTARY INFORMATION: The EFP is requested under the authority of the Magnuson-Stevens Fishery Conservation and Management Act (16 U.S.C. 1801 et seq.), and regulations at 50 CFR 600.745(b) concerning exempted fishing.

The described research is part of a Cooperative Research Program Grant and the Emergency Disaster Relief Program. The Cooperative Research Program is a means of involving commercial and/or recreational fishermen in the collection of fundamental fisheries information. Resource collection efforts support the development and evaluation of fisheries management and regulatory options. The Emergency Disaster Relief Program is administered by the Gulf States Marine Fisheries Commission, to assist in an assessment of the status of the for-hire fishery fleets operating in counties impacted by the 2005 hurricane season.

The proposed collection for scientific research involves activities otherwise prohibited by regulations implementing the Fishery Management Plan for the Reef Fish Resources of the Gulf of Mexico. The applicants require authorization to harvest and possess snapper and grouper species for scientific research activities during the period from June 15, 2009, through June 15, 2012. Specimens would be collected from Federal waters off the west coast of Florida. Sampling would occur during normal fishing operations of the recreational for-hire fishery. Data collections for this study would support improved information about the catch, bycatch, discards, discard mortality, age structure and sex determinations for species in the reef fish complex. These data would provide insight on a stock's resilience to fishing and would help refine estimates of long-term biological productivity of the stocks. It is anticipated project results would yield valuable data within this fishery.

NMFS finds this application warrants further consideration. Based on a preliminary review, NMFS intends to issue an EFP. Possible conditions the agency may impose on this permit, if it is indeed granted, include but are not limited to, a prohibition of conducting research within marine protected areas, marine sanctuaries, or special management zones, without additional authorization. Additionally, NMFS may prohibit the possession of Nassau or goliath grouper and would require any sea turtles taken incidentally during the course of fishing or scientific research activities to be handled with due care to prevent injury to live specimens, observed for activity, and returned to the water. A final decision on issuance of the EFP will depend on a NMFS review of public comments received on the application, consultations with the affected states, the Gulf of Mexico Fishery Management Council, and the U.S. Coast Guard, and a determination that it is consistent with all applicable laws.

Authority: 16 U.S.C. 1801 et seq.

Dated: July 8, 2009.
Kristen C. Koch
Acting Director, Office of Sustainable Fisheries, National Marine Fisheries Service.

[FR Doc. E9-16666 Filed 7-10-09; 8:45 am]

BILLING CODE 3510-22-S